INTERNATIONAL TRADE COMMISSION

[Investigation No. 731-TA-1462 (Final)]

Glass Containers From China; Supplemental Schedule for the Final Phase of an Antidumping Duty Investigation

AGENCY: United States International Trade Commission.

ACTION: Notice.

DATES: September 22, 2020.

FOR FURTHER INFORMATION CONTACT: Christopher W. Robinson (202-205-2542), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for this investigation may be viewed on the Commission's electronic docket (EDIS) at https://edis.usitc.gov.

SUPPLEMENTARY INFORMATION: Effective February 24, 2020, the Commission established a general schedule for the conduct of the final phase of its investigation on glass containers from China,¹ following a preliminary determination by the U.S. Department of Commerce (“Commerce”) that countervailable subsidies were being provided to producers and exporters of glass containers from China.² Notice of the scheduling of the final phase of the Commission's investigation and of a public hearing to be held in connection therewith was given by posting copies of the notice in the Office of the Secretary, U.S. International Trade Commission, Washington, DC, and by publishing the notice in the Federal Register of March 6, 2020 (85 FR 13183). In light of the restrictions on access to the Commission building due to the COVID-19 pandemic, and in accordance with 19 U.S.C. 1677c(a)(1), the Commission conducted its hearing scheduled for May 6, 2020 through submissions of written testimony and written responses to questions, as well as Commissioner questions and answers, closing arguments, and rebuttal remarks via video conference; all persons who requested the opportunity were permitted to participate. The Commission subsequently determined that an industry in the United States was not materially injured or threatened with material injury by reason of subsidized imports of glass containers from China.³ On September 18, 2020, Commerce determined that certain glass containers from China are being, or are likely to be, sold in the United States at less than fair value (LTFV).⁴ Accordingly, the Commission currently is issuing a supplemental schedule for its antidumping duty investigation on imports of glass containers from China.

¹ Glass Containers From China; Scheduling of the Final Phase of Countervailing Duty Investigation, 85 FR 13183, March 6, 2020.

² Certain Glass Containers From the People's Republic of China: Preliminary Affirmative Countervailing Duty Determination, 85 FR 12256, March 2, 2020.

³ Glass Containers from China, 85 FR 39932, July 2, 2020.

⁴ Certain Glass Containers From the People's Republic of China: Final Affirmative Determination of Sales at Less Than Fair Value, 85 FR 58333, September 18, 2020.

This supplemental schedule is as follows: The deadline for filing supplemental party comments on Commerce's final LTFV determination is September 29, 2020. Supplemental party comments may address only Commerce's final LTFV determination regarding imports of glass containers from China. These supplemental final comments may not contain new factual information and may not exceed five (5) pages in length. The supplemental staff report in the final phase of this investigation regarding subject LTFV imports from China will be placed in the nonpublic record on October 9, 2020; and a public version will be issued thereafter.

For further information concerning this investigation see the Commission's notice cited above and the Commission's Rules of Practice and Procedure, part 201, subparts A and B (19 CFR part 201), and part 207, subparts A and C (19 CFR part 207).

Additional written submissions to the Commission, including requests pursuant to section 201.12 of the Commission's rules, shall not be accepted unless good cause is shown for accepting such submissions, or unless the submission is pursuant to a specific request by a Commissioner or Commission staff.

In accordance with sections 201.16(c) and 207.3 of the Commission's rules, each document filed by a party to the investigation must be served on all other parties to the investigation (as identified by either the public or BPI service list), and a certificate of service must be timely filed. The Secretary will not accept a document for filing without a certificate of service.

Authority: This investigation is being conducted under authority of title VII of the Tariff Act of 1930; this notice is published pursuant to section 207.21 of the Commission's rules.

By order of the Commission.
Issued: September 22, 2020.
Lisa Barton,
Secretary to the Commission.

[FR Doc. 2020-21297 Filed 9-25-20; 8:45 am]

BILLING CODE 7020-02-P